DEPARTMENT OF AGRICULTURE

Rural Business-Cooperative Service

[Docket #: RBS-23-BUSINESS-0012]

Notice of Solicitation of Applications for the Rural Microentrepreneur Assistance Program for Fiscal Year 2024

AGENCY: Rural Business-Cooperative Service, USDA.

ACTION: Notice.

SUMMARY: The Rural Business-Cooperative Service (RBCS or Agency), an agency of the United States Department of Agriculture (USDA), Rural Development (RD), is making an initial announcement to invite applications for loans and grants under the Rural Microentrepreneur Assistance Program (RMAP) for fiscal year (FY) 2024, subject to the availability of funding. This notice is being issued prior to the passage of a FY 2024 Appropriations Act, which may or may not provide funding for this program, in order to allow applicants sufficient time to leverage financing, prepare and submit their applications, and give the Agency time to process applications within FY 2024. Based on FY 2023 appropriated funding, the Agency estimates that approximately $29,000,000 will be available for FY 2024. Successful applications will be selected by the Agency for funding and subsequently awarded to the extent that funding may ultimately be made available through appropriations. All applicants are responsible for any expenses incurred in developing their applications or any costs incurred prior to the obligation date.

DATES: The deadlines for completed applications to be received in the RD State Office for quarterly funding competitions are no later than 11:59 p.m. Eastern time on: First Quarter, September 30, 2023; Second Quarter, December 31, 2023; Third Quarter, March 31, 2024; and Fourth Quarter, June 30, 2024. If the due date falls on a Saturday, Sunday, or Federal holiday, the application is due the next business day.

The subsequent microlender technical assistance grant (existing Microenterprise Development Organizations (MDOs) with a microentrepreneur revolving loan fund) will be made, non-competitively, based on the microlender's microlending activity and availability of funds. To determine the microlender technical assistance grant awards for FY2024, if available, the Agency will use the microlender's outstanding balance of microloans as of June 30, 2024, to calculate the eligible grant amount. MDOs that are in compliance with the terms of their loan agreement may apply for this annual grant.

ADDRESSES: Applications must be submitted electronically to the RD State Office for the State where the project is located. Applicants are encouraged to contact their respective RD State Office for an email contact to submit an electronic application prior to the submission deadline date(s). A list of the RD State Office contacts can be found at: http://www.rd.usda.gov/contact-us/state-offices. This funding opportunity will be made available for informational purposes on www.grants.gov.

FOR FURTHER INFORMATION CONTACT: Shamika Johnson at shamika.johnson@usda.gov, Program Management Division, Business Programs, Rural Business-Cooperative Service, U.S. Department of Agriculture, 1400 Independence Avenue SW, Mail Stop 3226, Room 5160-S, Washington, DC 20250-3226, or call (202) 720-1400. For further information on this notice, please contact the RD State Office in the State in which the applicant's headquarters is located. A list of RD State Office contacts is provided at the following link: http://www.rd.usda.gov/contact-us/state-offices.

SUPPLEMENTARY INFORMATION:

Overview

Federal Awarding Agency Name: Rural Business-Cooperative Service (RBCS).

Funding Opportunity Title: Rural Microentrepreneur Assistance Program (RMAP).

Announcement Type: Notice of Solicitation of Application (NOSA).

Funding Opportunity Number: RD-RBCS-24-RMAP.

Assistance Listing: 10.870.

Dates: The deadlines for completed applications to be received in the RD State Office for quarterly funding competitions are no later than 11:59 p.m. Eastern time on: First Quarter, September 30, 2023; Second Quarter, December 31, 2023; Third Quarter, March 31, 2024, and Fourth Quarter, June 30, 2024.

Rural Development Key Priorities: The Agency encourages applicants to consider projects that will advance the following key priorities (more details available at https://www.rd.usda.gov/priority-points):

• Assisting rural communities recover economically through more and better market opportunities and through improved infrastructure;

• Ensuring all rural residents have equitable access to RD programs and benefits from RD funded projects; and

• Reducing climate pollution and increasing resilience to the impacts of climate change through economic support to rural communities.

A. Program Description

1. Purpose of the Program. The purpose of RMAP is to support the development and ongoing success of rural microentrepreneurs and microenterprises, each as defined in 7 CFR 4280.302. RMAP provides the following types of support: loan only, combination loan and technical assistance grant, and subsequent technical assistance grants to microenterprise development organizations (MDOs). Loan funds are used by the MDO to establish or recapitalize a revolving loan program for making microloans to a rural microentrepreneur business. Grant funds are used by the MDO to provide technical assistance and entrepreneurship training to rural individuals and businesses.

2. Statutory and Regulatory Authority. RMAP is authorized by Section 379E of the Consolidated Farm and Rural Development Act (Pub. L. 87-128), as amended, and is codified as 7 U.S.C. 2008s and implemented by 7 CFR part 4280, subpart D.

3. Definitions. The definitions applicable to this notice are published at 7 CFR 4280.302.

4. Application Awards. The Agency will review, evaluate, and score applications received in response to this notice based on the provisions found in 7 CFR part 4280, subpart D, and as indicated in this notice. Awards under RMAP will be made using the application scoring criteria contained in 7 CFR 4280.316 and this notice. The Agency advises all interested parties that the applicant bears the burden in preparing and submitting an application in response to this notice regardless of whether or not funding is appropriated for this program in FY 2024.

B. Federal Award Information

Type of Award: Loans and/or Grants.

Fiscal Year Funds: FY 2024.

Available Funds: Dependent upon FY 2024 appropriations. Funding is anticipated to be approximately $29,000,000 based on FY 2023 amounts. RBCS may at its discretion, increase the total level of funding available in this funding round from any available source provided the awards meet the requirements of the statute which made the funding available to the Agency.

Award Amounts: The Agency anticipates the following maximum amounts per award: Loans—$500,000; Grants—$100,000.

Anticipated Award Dates:

(a) Regular Funding: First Quarter—December 1, 2023, Second Quarter—March 1, 2024, Third Quarter—June 1, 2024, Fourth Quarter—September 1, 2024.

(b) Subsequent Annual Microlender Technical Assistance Grants: September 30, 2024.

Performance Period: Subsequent Annual Microlender Technical Assistance Grants September 30, 2024 to September 30, 2025.

Renewal or Supplemental Awards: Unless withdrawn by the applicant, completed applications that receive a score of at least 60 (7 CFR 4280.310(c)) but have not yet been funded, will be retained by the Agency for consideration in subsequent reviews through a total of four consecutive quarterly reviews. Applications that remain unfunded after four quarterly reviews, including the initial quarter in which the application was competed, will not be considered further for an award.

Type of Assistance Instrument: Direct Loan, Financial Assistance Agreement.

C. Eligibility Information

1. Eligible Applicants. Eligible applicants are domestic organizations that are non-profit entities, Indian tribes (25 U.S.C. 5304(e)) or public institutions of higher education. Eligible applicants must provide training and technical assistance, make microloans, facilitate access to capital, or have an effective plan or program to deliver such services. The applicant must meet the eligibility requirements in 7 CFR 4280.310 and must not be delinquent on any Federal debt or otherwise disqualified from participation in this program to be eligible to apply. The Agency will check the Do Not Pay portal to determine if the applicant has been debarred or suspended at the time of application and also prior to funding any grant award. All other restrictions in this notice will apply.

2. Cost Sharing or Matching. The cost share requirement shall be met by the microlender in accordance with the requirements specified in 7 CFR 4280.311(d).

The MDO is required to provide a match of not less than 15 percent of the total amount of the grant in the form of matching funds, indirect costs, or in-kind goods or services.

3. Other Eligibility Requirements. Applications will only be accepted from eligible MDOs. Applications will not be considered for funding if they do not provide sufficient information to determine eligibility or are otherwise not suitable for evaluation. Such applications will be withdrawn and not considered for funding.

D. Application and Submission Information

1. Address to Request Application Package. For further information, entities wishing to apply for assistance should contact the RD State Office as identified in the ADDRESSES section of this notice to obtain an electronic copy of the application package.

An MDO may submit an initial application for a loan with a microlender technical assistance grant, or an initial or subsequent loan-only (without a microlender technical assistance grant). Loan applications must be submitted electronically to the RD State Office where the project is located and must be organized in the same order set forth in 7 CFR 4280.315. Applicants are strongly encouraged to contact their respective RD State Office for an email contact to submit an electronic application prior to the submission deadline date(s).

2. Content and Form of Application Submission. An application must contain all of the required elements outlined in 7 CFR 4280.315 and in this notice. Each application must address the applicable scoring criteria presented in 7 CFR 4280.316 for the type of funding being requested.

For entities applying for program loan funds to become an RMAP microlender only, the following items are also required: (1) Form RD 1910-11, “Applicant Certification Federal Collection Policies for Consumer or Commercial Debts;” available at https://forms.sc.egov.usda.gov/efcommon/eFileServices/eForms/RD1910-11.PDF; (2) Demonstration that the applicant is eligible to apply to participate in this program; and (3) Certification by the applicant that it cannot obtain sufficient credit elsewhere to fund the activities called for under this program with similar rates and terms.

Current MDO entities may be eligible for subsequent annual microlender technical assistance grants that are awarded subject to funding availability and determined non-competitively based on Agency appropriations for the fiscal year. The MDO must submit a prescribed worksheet, listing the outstanding balance of their microloans and unexpended grant funds as of June 30, 2024, and a letter certifying that their organization still meets all the requirements set forth in 7 CFR part 4280, subpart D, and that no significant changes have occurred within the last year that would affect its ability to carry out the MDO functions. In addition, all MDOs who request Subsequent Annual Microlender Technical Assistance Grants must complete their reporting into the Lenders Interactive Network Connection (LINC) for the Federal fiscal quarter ending June 30, 2024 which will verify the outstanding balance of their microloans as stated in their request for grant funds. The deadline for reporting into LINC and requesting a technical assistance grant is no later than 4:30 p.m. (Eastern time) on August 1, 2024.

3. System for Award Management and Unique Entity Identifier.

(a) At the time of application, each applicant must have an active registration in the System for Award Management (SAM) before submitting its application in accordance with 2 CFR part 25. In order to register in SAM, entities will be required to obtain a Unique Entity Identifier (UEI). Instructions for obtaining the UEI are available at https://sam.gov/content/entity-registration.

(b) Applicants must maintain an active SAM registration, with current, accurate and complete information, at all times during which it has an active Federal award or an application under consideration by a Federal awarding agency.

(c) Applicant must ensure they complete the Financial Assistance General Certifications and Representations in SAM.

(d) Applicants must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. Competitions for the available loan and grant funds will be made quarterly for applications that are received no later than 11:59 p.m. Eastern time on: First Quarter, September 30, 2023; Second Quarter, December 31, 2024; Third Quarter, March 31, 2024; and Fourth Quarter, June 30, 2024.

Applications must be received by the RD State Office by the dates and times as indicated above to compete for available funds in that fiscal quarter. If the due date falls on a Saturday, Sunday, or Federal holiday, the application is due the next business day.

The Agency will not solicit or consider new scoring or eligibility information that is submitted after the application deadline. RBCS also reserves the right to ask applicants for clarifying information and additional verification of assertions in the application.

5. Intergovernmental Review. Executive Order (E.O.) 12372, “Intergovernmental Review of Federal Programs,” applies to this program. This E.O. requires that Federal agencies provide opportunities for consultation on proposed assistance with State and local governments. Many states have established a Single Point of Contact (SPOC) to facilitate this consultation. For a list of states that maintain a SPOC, please see the White House website: https://www.whitehouse.gov/omb/management/office-federal-financial-management/. If your state has a SPOC, you may submit a copy of the application directly for review. Any comments obtained through the SPOC must be provided to your RD State Office for consideration as part of your application. If your state has not established a SPOC, you may submit your application directly to the Agency. Applications from Federally recognized Indian Tribes are not subject to this requirement.

6. Funding Restrictions. No funds made available under this notice shall be used for ineligible purposes outlined in 7 CFR 4280.313(e).

7. Other Submission Requirements. All applications must be submitted as a complete application, in one package.

E. Application Review Information

1. Criteria. All eligible and complete applications for new loan and grant funds will be evaluated and scored based on the selection criteria and weights contained in 7 CFR part 4280, subpart D. Failure to address any one of the criteria by the application deadline will result in the application being determined ineligible and the application will not be considered for funding. An application must receive at least 60 points out of 100 possible points in the scoring criteria stated in 7 CFR 4280.316 to be considered for funding in the quarter in which it is scored.

2. Review and Selection Process. The RD State Offices will review applications to determine if they are eligible for assistance based on requirements contained in 7 CFR part 4280, subpart D. If determined eligible, the application will be submitted to the National Office, where it will be reviewed and prioritized by ranking each application received in that quarter, from highest to lowest score order. All applications will be funded from the highest to lowest score until funds have been exhausted for each funding cycle. Funding of projects is subject to the MDO's satisfactory submission of the additional items required by that subpart and the USDA RD Letter of Conditions.

F. Federal Award Administration Information

1. Federal Award Notices. Successful applicants will receive notification for funding from the RD State Office. Applicants must comply with all applicable statutes and regulations before the award will be approved. Provided the application and eligibility requirements have not changed, an application not selected will be reconsidered for three subsequent funding competitions for a total of four competitions. If an application is withdrawn, it can be resubmitted and will be evaluated as a new application. Unsuccessful applications will receive notification by mail, detailing why the application was unsuccessful.

2. Administrative and National Policy Requirements. Additional requirements that apply to MDOs selected for this program can be found in 7 CFR part 4280, subpart D. The USDA and the Agency have adopted the USDA grant regulations at 2 CFR chapter IV. This regulation incorporates the latest revisions to the Office of Management and Budget (OMB) regulations 2 CFR part 200 and 2 CFR part 400 for monitoring and servicing RMAP funding.

3. Reporting. In addition to any reports required by 2 CFR part 200 and 2 CFR part 400, the MDO must provide reports as required by 7 CFR part 4280, subpart D.

Intermediaries must collect and maintain data provided by Ultimate Recipients defined by 7 CFR 4280.3 on race, sex, and national origin and must also ensure that Ultimate Recipients collect and maintain this data. Race and ethnicity data will be collected in accordance with OMB Federal Register notice, “Revisions to the Standards for the Classification of Federal Data on Race and Ethnicity” (62 FR 58782), October 30, 1997. Sex data will be collected in accordance with Title IX of the Education Amendments of 1972. These items should not be submitted with the application but should be available upon request by the Agency.

The applicant and the Ultimate Recipients must comply with Title VI of the Civil Rights Act of 1964, Title IX of the Education Amendments of 1972, the Americans with Disabilities Act (ADA), Section 504 of the Rehabilitation Act of 1973, the Age Discrimination Act of 1975, Executive Order 12250, Executive Order 13166 Limited English Proficiency (LEP), and 7 CFR part 1901, subpart E.

G. Federal Awarding Agency Contact(s)

For general questions about this notice, please contact the RD State Office as provided in the ADDRESSES section of this notice.

H. Other Information

1. Paperwork Reduction Act. In accordance with the Paperwork Reduction Act of 1995 (44 U.S.C. chapter 35), the information collection requirements associated with RMAP, as covered in this notice, have been approved by OMB under OMB Control Number 0570-0062.

2. National Environmental Policy Act. All recipients under this notice are subject to the requirements of 7 CFR part 1970. However, awards for technical assistance and training under this notice are classified as a Categorical Exclusion according to 7 CFR 1970.53(b), and usually do not require any additional documentation. RBCS will review each grant application to determine its compliance with 7 CFR part 1970. The applicant may be asked to provide additional information or documentation to assist RBCS with this determination.

3. Federal Funding Accountability and Transparency Act. All applicants, in accordance with 2 CFR part 25, must be registered in SAM and have a UEI number as stated in Section D.3 of this notice.

4. Civil Rights Act. All grants made under this notice are subject to title VI of the Civil Rights Act of 1964 as required by the USDA (7 CFR part 15, subpart A—Nondiscrimination in Federally-Assisted Programs of the Department of Agriculture—Effectuation of Title VI of the Civil Rights Act of 1964) and section 504 of the Rehabilitation Act of 1973, title VIII of the Civil Rights Act of 1968, title IX, Executive Order 13166 (Limited English Proficiency), Executive Order 11246, and the Equal Credit Opportunity Act of 1974.

5. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office or the 711 Relay Service.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Karama Neal,
Administrator, Rural Business-Cooperative Service, USDA Rural Development.

[FR Doc. 2023-19928 Filed 9-13-23; 8:45 am]

BILLING CODE 3410-XY-P